DEPARTMENT OF STATE

[Public Notice 6534]

Culturally Significant Objects Imported for Exhibition Determinations: “The Birth of Christianity: A Jewish Story”

AGENCY: Department of State.

ACTION: Notice; correction.

SUMMARY: On November 25, 2008, notice was published on page 71714 of the Federal Register (volume 73, number 228) of determinations made by the Department of State pertaining to the exhibition “The Birth of Christianity: A Jewish Story.” The referenced notice is corrected as to an additional object to be included in the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the additional object in the exhibition: “The Birth of Christianity: A Jewish Story,” imported from abroad for temporary exhibition within the United States, is of cultural significance. The object is imported pursuant to a loan agreement with the foreign owner or custodian. I also determine that the exhibition or display of the additional exhibit object at the Houston Museum of Natural Science, Houston, TX, from on or about March 1, 2009, until on or about April 12, 2009, and at possible additional exhibitions or venues yet to be determined, is in the national interest. Public Notice of these Determinations is ordered to be published in the Federal Register.

FOR FURTHER INFORMATION CONTACT: For further information, including a list of the exhibit object, contact Julie Simpson, Attorney-Adviser, Office of the Legal Adviser, U.S. Department of State (telephone: 202-453-8050). The address is U.S. Department of State, SA-44, 301 4th Street, SW., Room 700, Washington, DC 20547-0001.

Dated: February 20, 2009.
C. Miller Crouch,
Acting Assistant Secretary for Educational and Cultural Affairs, Department of State.

[FR Doc. E9-4250 Filed 2-26-09; 8:45 am]

BILLING CODE 4710-05-P